DEPARTMENT OF ENERGY

Federal Energy Regulatory Commission

Combined Notice of Filings

Take notice that the Commission has received the following Natural Gas Pipeline Rate and Refund Report filings:

Filings Instituting Proceedings

Docket Numbers: RP13-813-000.

Applicants: TWP Pipeline LLC.

Description: Amendment to Non-Conforming Transportation Agreement to be effective 5/24/2013.

Filed Date: 4/24/13.

Accession Number: 20130424-5023.

Comments Due: 5 p.m. ET 5/6/13.

Docket Numbers: RP13-814-000.

Applicants: Transcontinental Gas Pipe Line Company.

Description: Annual Adjustment to Rate Schedule SS-2 Storage Gas Balances 2013 to be effective 5/1/2013.

Filed Date: 4/24/13.

Accession Number: 20130424-5036.

Comments Due: 5 p.m. ET 5/6/13.

Docket Numbers: RP13-815-000.

Applicants: Wyoming Interstate Company, L.L.C.

Description: Removal of Non Conforming and Neg Rate TSAs and Points of Contact Update Filing to be effective 5/25/2013.

Filed Date: 4/24/13.

Accession Number: 20130424-5064.

Comments Due: 5 p.m. ET 5/6/13.

Docket Numbers: RP13-816-000.

Applicants: Dominion Transmission, Inc..

Description: DTI—Abandonment of Rate Schedules X-15 and X-58 to be effective 5/28/2013.

Filed Date: 4/24/13.

Accession Number: 20130424-5085.

Comments Due: 5 p.m. ET 5/6/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-460-001

Applicants: Cadeville Gas Storage LLC

Description: Cadeville Gas Storage Tariff Filing 4.24.13 to be effective 5/1/2013.

Filed Date: 4/24/13.

Accession Number: 20130424-5158.

Comments Due: 5 p.m. ET 5/6/13.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: April 25, 2013.
Nathaniel J. Davis, Sr.,
Deputy Secretary.

[FR Doc. 2013-10371 Filed 5-1-13; 8:45 am]

BILLING CODE 6717-01-P